DEPARTMENT OF TRANSPORTATION

Federal Aviation Administration

14 CFR Part 71

[Airspace Docket No. 02-ACE-7]

Proposed Modification of Class D Airspace; Knot Noster, Whiteman AFB, MO; and modification of Class E Airspace; Knob Noster, Whiteman AFB, MO; Correction

AGENCY: Federal Aviation Administration (FAA), DOT.

ACTION: Notice of proposed rulemaking; correction.

SUMMARY: This action corrects an error in the airspace classification of a notice of proposed rulemaking that was published in the Federal Register on Wednesday, August 28, 2002 (67 FR 55180). The proposal was to modify Class D and Class E airspace at Knob Noster, Whiteman AFB, MO.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

Federal Register Document 02-21136 published on Wednesday, August 28, 2002 (67 FR 55180), proposed to modify Class D, Class E2, and ZE5 Airspace at Knob Noster, Whiteman AFB, MO. Class E5 Airspace was incorrectly labeled as Class E2 Airspace thereby proposing two conflicting legal descriptions of Class E2 Airspace and omitting any legal description of Class E5 Airspace.

Accordingly, pursuant to the authority delegated to me, the error for the proposed Class E5 Airspace misidentified as Class E2 Airspace, Knob Noster, Whiteman AFB, MO, as published in the Federal Register Wednesday, August 28, 2002 (67 FR 55180) (FR Doc. 01-21136), is corrected as follows:

§ 71.1 [Corrected]

On page 55181, Column 3, first line, correct the heading “ACE MO E2 Knob Noster, MO” to read “ACE MO E5 Knob Noster, MO”.

Issued in Kansas City, MO, on September 3, 2002.
Herman J. Lyons, Jr.,
Manager, Air Traffic Division, Central Region.

[FR Doc. 02-23827 Filed 9-26-02; 8:45 am]

BILLING CODE 4910-13-M